DEPARTMENT OF COMMERCE

International Trade Administration

[A-201-836]

Light-Walled Rectangular Pipe and Tube From Mexico: Final Results of Antidumping Duty Administrative Review; 2022-2023

AGENCY: Enforcement and Compliance, International Trade Administration, Department of Commerce.

SUMMARY: The U.S. Department of Commerce (Commerce) determines that light-walled rectangular pipe and tube (LWRPT) from Mexico was sold in the United States at less than normal value during the period of review (POR), August 1, 2022, through July 31, 2023.

DATES: Applicable June 16, 2025.

FOR FURTHER INFORMATION CONTACT: John Conniff or Charles Doss, AD/CVD Operations, Office III, Enforcement and Compliance, International Trade Administration, U.S. Department of Commerce, 1401 Constitution Avenue NW, Washington, DC 20230; telephone: (202) 482-1009 or (202) 482-4474, respectively.

SUPPLEMENTARY INFORMATION:

Background

On September 13, 2024, Commerce published the Preliminary Results of this review in the Federal Register and invited interested parties to comment on those results.¹ For a summary of the events that occurred since the Preliminary Results, see the Issues and Decision Memorandum.² Commerce conducted this administrative review in accordance with section 751(a) of the Tariff Act of 1930, as amended (the Act). On December 9, 2024, Commerce tolled the deadline to issue the final results in this administrative review by 90 days.³ On April 2 and May 9, 2025, we extended the deadline for the final results.⁴ Accordingly, the deadline for these final results is now June 10, 2025.

¹ See Light-Walled Rectangular Pipe and Tube from Mexico: Preliminary Results and Partial Rescission of Antidumping Duty Administrative Review; 2022-2023, 89 FR 74916 (September 13, 2024), and accompanying Preliminary Decision Memorandum.

² See Memorandum, “Issues and Decision Memorandum for the Final Results of Antidumping Duty Administrative Review of Light-Walled Rectangular Pipe and Tube from Mexico; 2022-2023,” dated concurrently with, and hereby adopted by, this notice (Issues and Decision Memorandum).

³ See Memorandum, “Tolling of Deadlines for Antidumping and Countervailing Duty Proceedings,” dated December 9, 2024.

⁴ See Memorandum, “Extension of Deadline for Final Results of Antidumping Duty Administrative Review,” dated April 2, 2025; see also Memorandum, “Extension of Deadline for Final Results of Antidumping Duty Administrative Review,” dated May 9, 2025.

Scope of the Order ⁵

⁵ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008) (Order).

The products covered by the Order are LWRPT from Mexico. For a complete description of the scope, see the Issues and Decision Memorandum.

Analysis of Comments Received

All issues raised in the case and rebuttal briefs are addressed in the Issues and Decision Memorandum. A list of the issues that parties raised and to which we responded in the Issues and Decision Memorandum is attached at the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for Perfiles and Maquilacero/TEFLU. For a discussion of these changes, see the Issues and Decision Memorandum.

Rates for Companies Not Selected for Individual Examination

For the rate for non-selected respondents in an administrative review, generally, Commerce looks to section 735(c)(5) of the Act, which provides instructions for calculating the all-others rate in an investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a weighted-average dumping margin for both respondents, Perfiles and Maquilacero/TEFLU that are not zero, de minimis, or based entirely on the basis of facts available. Accordingly, consistent with section 735(c)(5)(A) of the Act, we determined the weighted-average dumping margin for each of the non-selected companies based on the weighted-average dumping margins calculated for the mandatory respondents.⁶

⁶ See Memorandum, “Calculation of the Rate for Non-Selected Respondents,” dated concurrently with this notice.

Final Results of Review

Commerce determines that the following estimated weighted-average dumping margins exist for the period August 1, 2022, through July 31, 2023:

⁷ Commerce has previously found Maquilacero and TEFLU to comprise a single entity. See, e.g., Light-Walled Rectangular Pipe and Tube from Mexico: Final Results of Antidumping Duty Administrative Review; 2018-2019, 86 FR 33646 (June 25, 2021), and accompanying Issues and Decision Memorandum at Comment 9.

⁸ Commerce has previously found Aceros Cuatro Caminos S.A. de C.V./Productos Laminados de Monterrey S.A. de C.V. to comprise a single entity. See, e.g., Light-Walled Rectangular Pipe and Tube from Mexico: Final Results of Antidumping Duty Administrative Review; 2015-2016, 83 FR 10664 (March 12, 2018).

Producer or exporter | Weighted- average dumping margin (percent)
Maquilacero S.A. de C.V./Tecnicas de Fluidos S.A. de C.V.⁷ | 13.04
Perfiles LM, S.A. de C.V | 6.48
Aceros Cuatro Caminos S.A. de C.V./Productos Laminados de Monterrey S.A. de C.V.⁸ | 9.88
Nacional de Acero S.A. de C.V | 9.88
Regiomontana de Perfiles y Tubos S. de R.L. de C.V | 9.88
Ternium Mexico S.A. de C.V | 9.88

Disclosure

Commerce intends to disclose to interested parties the calculations performed for these final results in this review within five days of the date of publication of this notice in the Federal Register, in accordance with 19 CFR 351.224(b).

Assessment Rate

Pursuant to section 751(a)(2)(A) of the Act, and 19 CFR 351.212(b)(1), Commerce shall determine, and U.S. Customs and Border Protection (CBP) shall assess, antidumping duties on all appropriate entries covered by this review. Pursuant to 19 CFR 351.212(b)(1), where the respondent reported the entered value of its U.S. sales, we calculated importer-specific antidumping duty assessment rates by aggregating the total amount of dumping calculated for the examined sales of each importer and dividing each of these amounts by the total entered value associated with those sales. Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either the respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR produced by the mandatory respondents for which the companies did not know that the merchandise they sold to an intermediary (e.g., a reseller, trading company, or exporter) was destined for the United States. In such instances, we will instruct CBP to liquidate unreviewed entries at the all-others rate if there is no rate for the intermediate companies involved in the transaction.

Commerce intends to issue assessment instructions to CBP no earlier than 41 days after the date of publication of the final results of this review in the Federal Register in accordance with 19 CFR 356.8(a).

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” section will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 3.76 percent, the rate established in the investigation of this proceeding.⁹ These cash deposit requirements, when imposed, shall remain in effect until further notice.

⁹ See Order, 73 FR at 45405.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: June 10, 2025.
Steven Pressing,
Acting Deputy Assistant Secretary for Policy and Negotiations.

Appendix

List of Topics Discussed in the Issues and Decision Memorandum

I. Summary

II. Background

III. Scope of the Order

IV. Use of Facts Otherwise Available and Application of Adverse Inference

V. Changes Since the Preliminary Results

VI. Discussion of the Issues

Comment 1: Whether Products Sold by TEFLU are In-Scope Merchandise

Comment 2: Whether Commerce Should Continue to Collapse Maquilacero and TEFLU

Comment 3: Whether Commerce Should Remove Consideration of Manufacturer from Maquilacero/TEFLU's Margin Calculation

Comment 4: Whether Commerce Should Continue to Apply Its Quarterly Cost Methodology Maquilacero/TEFLU

Comment 5: Whether Commerce Should Apply a Cost Smoothing Adjustment to Maquilacero/TEFLU's Costs

Comment 6: Whether Commerce Should Revise Its Application of the Transactions Disregarded Adjustment to Maquilacero/TEFLU's Costs

Comment 7: Whether Commerce Should Revise Its Treatment of Downstream Sales in the Margin Calculation

Comment 8: Whether Commerce Should Remove TEFLU's Sample Sales from Maquilacero/TEFLU's Margin Calculation

Comment 9: Whether Commerce Must Adjust its Differential Pricing Analysis for Maquilacero/TEFLU

Comment 10: Whether Commerce Should Revise Perfiles' Date of Sale

Comment 11: Whether Commerce Should Revise Perfiles' Cost Recovery Test

Comment 12: Whether Commerce Should Apply Partial AFA for the Major Input Rule for Coil Purchases from Galvasid S.A. de C.V. (Galvasid)

Comment 13: Whether Commerce Should Allocate Grupo LM's Unrecovered Expenses to Perfiles' General and Administrative (G&A) Expenses

Comment 14: Whether Perfiles' Total Cost of Manufacturing (TOTCOM) Should be Adjusted for a Discrepancy in Its Cost Reconciliation

Comment 15: Whether Commerce Should Revise Its Non-Selected Rate

VII. Recommendation

[FR Doc. 2025-10951 Filed 6-13-25; 8:45 am]

BILLING CODE 3510-DS-P